DEPARTMENT OF JUSTICE

Immigration and Naturalization Service

Agency Information Collection Activities; Comment Request

ACTION: Request OMB emergency approval; application for benefits under the Family Unity Program.

The Department of Justice, Immigration and Naturalization Service (INS) has submitted an emergency information collection request (ICR) utilizing emergency review procedures, to the Office of Management and Budget (OMB) for review and clearance in accordance with section 1320.13(a)(1)(ii) and (a)(2)(iii) of the Paperwork Reduction Act of 1995. The INS has determined that it cannot reasonably comply with the normal clearance procedures under this part because normal clearance procedures are reasonably likely to prevent or disrupt the collection of information. Therefore, OMB approval has been requested by February 14, 2000. If granted, the emergency approval is only valid for 180 days. ALL comments and/or questions pertaining to this pending request for emergency approval MUST be directed to OMB, Office of Information and Regulatory Affairs, Attention: Mr. Stuart Shapiro, 202-395-7316, Department of Justice Desk Officer, Washington, DC 20503 before February 14, 2000. Comments regarding the emergency submission of this information collection may also be submitted via facimile to Mr. Shapiro at 202-395-6974.

During the first 60 days of this same period, a regular review of this information collection is also being undertaken. During the regular review period, the INS requests written comments and suggestions from the public and affected agencies concerning this information collection. Comments are encouraged and will be accepted until April 11, 2000. During the 60-day regular review, ALL comments and suggestions, or questions regarding additional information, to include obtaining a copy of the information collection instrument with instructions, should be directed to Mr. Richard A. Sloan, 202-514-3291, Director, Policy Directives and Instructions Branch, Immigration and Naturalization Service, U.S. Department of Justice, Room 5307, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Application for Benefits Under the Family Unity Program.

(3) Agency form number, if any, and the applicable component of the Department of Justice sponsoring the collection: Form I-817. Adjudications Division, Immigration and Naturalization Service.

(4) Affected public who will be asked or required to respond, as well as a brief abstract: Primary: Individuals or households. This application provides for an automatic stay of deportation and employment authorization for the spouse or unmarried son or daughter of an alien who has been granted either temporary or permanent resident status pursuant to section 210 (SAW) or section 245a (Legalization) of the INA or section 202 of IRCA (Cuban/Haitian Adjustment).

(5) An estimate of the total number of respondents and the amount of time estimated for an average respondent to respond: 25,000 responses at 2 hours and 5 minutes (2.083 hours) per response.

(6) An estimate of the total public burden (in hours) associated with the collection: 52,075 annual burden hours.

If additional information is required contact: Mr. Robert B. Briggs, Clearance Officer, United States Department of Justice, Information Management and Security Staff, Justice Management Division, Suite 850, Washington Center, 1001 G Street, NW., Washington, DC 20530.

Dated: February 7, 2000.
Stephen R. Tarragon,
Acting Department Clearance Officer, United States Department of Justice, Immigration and Naturalization Service.

[FR Doc. 00-3154 Filed 2-10-00; 8:45 am]

BILLING CODE 4410-10-M